INTERNATIONAL TRADE COMMISSION

[Investigation Nos. 701-TA-460-461 (Final)]

In the Matter of Ni-Resist Piston Inserts From Argentina and Korea; Notice of Commission Determination Not To Conduct a Portion of the Hearing in camera

AGENCY: U.S. International Trade Commission.

ACTION: Commission determination not to close any part of the hearing to the public.

SUMMARY: The Commission has determined to deny the request of Karl Schmidt Unisia, Inc. (“Karl Schmidt”) to conduct a portion of its hearing in the above-captioned investigations scheduled for September 17, 2009 in camera. See Commission rules 207.24(d), 201.13(m) and 201.36(b)(4) (19 CFR 207.24(d), 201.13(m) and 201.36(b)(4)).

FOR FURTHER INFORMATION CONTACT: Marc A. Bernstein, Office of General Counsel, U.S. International Trade Commission, telephone 202-205-3087. Hearing-impaired individuals are advised that information on this matter may be obtained by contacting the Commission's TDD terminal on 202-205-1810.

SUPPLEMENTARY INFORMATION: Karl Schmidt's request to conduct a portion of the hearing in camera did not satisfy the requirements of Commission rule 207.24(d) because Karl Schmidt did not identify specific issues it intended to discuss in a closed hearing, nor did it indicate why it could not present its arguments and testimony in a public session. Karl Schmidt's request also incorrectly assumed that it could present in camera testimony from corporate witnesses who had not entered the administrative protective order (APO) and that it could make its entire presentation in camera. Moreover, the Commission took into account that Karl Schmidt asked that the hearing be held in camera, “with only counsel granted APO permission present throughout.” This would exclude Petitioner's counsel, who is not subject to the APO, from hearing Respondent's arguments. Consequently, in light of the circumstances of these investigations, the Commission has concluded that it will be able to assess adequately all arguments raised by Karl Schmidt without resorting to the extraordinary measure of an in camera hearing. Accordingly, the Commission has determined that the public interest would be best served by a hearing that is entirely open to the public. See 19 CFR 201.36(c)(1).

Authority: This notice is provided pursuant to Commission Rule 201.35(b) (19 CFR 201.35(b)).

Issued: September 16, 2009.
By order of the Commission.
Marilyn R. Abbott,
Secretary to the Commission.
William R. Bishop,
Acting Secretary to the Commission.

[FR Doc. E9-22582 Filed 9-18-09; 8:45 am]

BILLING CODE P